DEPARTMENT OF ENERGY

Federal Energy Regulatory Commission

[Docket No. ER02-491-000]

Duke Power, a Division of Duke Energy Corporation; Notice of Filing

December 13, 2001.

Take notice that on December 6, 2001, Duke Power (Duke), a division of Duke Energy Corporation, tendered for filing a Service Agreement under Duke's Wholesale Market-Based Rate Tariff Providing for Sales of Capacity, Energy, or Ancillary Services and Resale of Transmission Rights between Duke and Williams Energy Marketing and Trading Company. Duke requests that the proposed Service Agreement be permitted to become effective on November 12, 2001. Duke states that this filing is in accordance with part 35 of the Commission's Regulations, and that a copy has been served on the North Carolina Utilities Commission.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before December 27, 2001. Protests will be considered by the Commission to determine the appropriate action to be taken, but will not serve to make protestants parties to the proceedings. Any person wishing to become a party must file a motion to intervene. Copies of this filing are on file with the Commission and are available for public inspection. This filing may also be viewed on the Commission's Web site at http://www.ferc.gov using the “RIMS” link, select “Docket#” and follow the instructions (call 202-208-2222 for assistance). Comments, protests and interventions may be filed electronically via the internet in lieu of paper. See, 18 CFR 385.2001(a)(1)(iii) and the instructions on the Commission's Web site under the “e-filing” link.

Linwood A. Watson, Jr.,
Acting Secretary.

[FR Doc. 01-31232 Filed 12-18-01; 8:45 am]

BILLING CODE 6717-01-P